DEPARTMENT OF JUSTICE

Antitrust Division

Notice Pursuant to the National Cooperative Research and Production Act of 1993—The Open Group, L.L.C.

Notice is hereby given that, on March 9, 2015, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, Achmea B.V., Zeist, THE NETHERLANDS; Aoyama Gakuin University, Tokyo, JAPAN; Data-Harmonizing, LLC, Littleton, CO; Dividend Group Corp., Toronto, CANADA; Eon Consulting (Pty) Ltd., Midrand, SOUTH AFRICA; Exostrategies, Inc., Woodland, CO; Exxon Mobil Corporation, Houston, TX; In2itive LLC, Alexandria, VA; Link Consulting, S.A., Lisbon, PORTUGAL; Ministerie van Financien (Belastingdienst), Den Haag, THE NETHERLANDS; Origin Energy, Sydney, AUSTRALIA; Osrodek Studiow nad Cyfrowym Panstwem, Lodz, POLAND, Salesforce.com, Inc., San Francisco, CA; Sensedia, Campinas, BRAZIL; SimVentions, Inc., Fredericksburg, VA; Southwest Research Institute, San Antonio, TX; and State Farm Mutual Automobile Insurance Company, Bloomington, IL, have been added as parties to this venture.

Also, DARYUS Consulting & Education Center, Sao Paolo, BRAZIL; IB Solutions, Inc., Calgary, CANADA; Motorola Solutions Inc., Schaumburg, IL; Synthetic Spheres Ltd., Solihull, UNITED KINGDOM; and UDEF-IT, L.L.C., New Smyrna Beach, FL, have withdrawn as parties to this venture.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on November 19, 2014. A notice was published in the Federal Register pursuant to section 6(b) of the Act on December 16, 2014 (79 FR 74767).

Patricia A. Brink,
Director of Civil Enforcement, Antitrust Division.

[FR Doc. 2015-07524 Filed 4-1-15; 8:45 am]

BILLING CODE CODE P